DEPARTMENT OF LABOR

Employment and Training Administration

[TA-W-51,402]

Geiger Bros, Inc., Lewiston, ME; Amended Certification Regarding Eligibility To Apply for Worker Adjustment Assistance

In accordance with section 223 of the Trade Act of 1974 (19 U.S.C. 2273) the Department of Labor issued a Certification of Eligibility to Apply for Worker Adjustment Assistance on April 16, 2003, applicable to all workers of Geiger Bros, Inc. located in Lewiston, Maine. The notice was published in the Federal Register on May 1, 2003 (68 FR 23323).

At the request of the State agency, the Department reviewed the certification for workers of the subject firm. The workers produce diaries, day planners and calendars.

New information provided by a State agency representative and a company official shows that workers producing diaries, day planners and calendars are not separately identifiable among those products but are separately identifiable from workers in other divisions at the Lewiston, Maine plant.

Accordingly, the certification is being limited to the workers of Geiger Bros, Inc., Lewiston, Maine, engaged in employment related to the production of diaries, day planners and calendars, not all workers of the firm.

The amended notice applicable to TA-W-51,402 is hereby issued as follows:

Workers of Geiger Bros, Inc., Lewiston, Maine, engaged in employment related to the production of diaries, day planners and calendars, who became totally or partially separated from employment on or after March 31, 2002, through April 16, 2005, are eligible to apply for adjustment assistance under Section 223 of the Trade Act of 1974.

Signed at Washington, DC, this 9th day of July, 2003.
Linda G. Poole,
Certifying Officer, Division of Trade Adjustment Assistance.

[FR Doc. 03-18826 Filed 7-23-03; 8:45 am]

BILLING CODE 4510-30-P